NATIONAL CAPITAL PLANNING COMMISSION

Privacy Act of 1974; System of Records

AGENCY: National Capital Planning Commission.

ACTION: Notice of a Modified System of Records.

SUMMARY: In accordance with the Privacy Act of 1974, the National Capital Planning Commission (NCPC or Commission) is providing notice of its intention to update and reissue one system of records (System of Records or Systems) currently titled, NCPC-1, Mailing Lists—NCPC. The category of records to be adopted include the previously adopted list of Federal, State, and local government officials, neighborhood groups, and private citizens of the National Capital Region desiring information on Commission business and activities. New records incorporated into the System of Records include: Contact information for Commission members and designated alternatives; points of contact for media outlets seeking Commission announcements and press releases; and federal agency contacts for agencies submitting projects for inclusion in the Federal Capital Improvement Plan (FCIP) prepared by NCPC.

DATES: This document will become effective October 9, 2020. If no comments are received, the proposed System of Records will become effective on the stated date. If comments are received, they will be considered, and if adopted, the document will be republished in revised form.

ADDRESSES: You may submit written comments on this proposed System of Records Notice (Notice) by either of the methods listed below.

1. U.S. mail, courier, or hand delivery to Anne Schuyler, General Counsel/Privacy Act Officer/National Capital Planning Commission, 401 9th Street NW, Suite 500, Washington, DC 20004.

2. Electronically to privacy@ncpc.gov.

FOR FURTHER INFORMATION CONTACT: Anne R. Schuyler, General Counsel/Privacy Act Officer at 202-642-0591 or privacy@ncpc.gov.

SUPPLEMENTARY INFORMATION: The routine uses of the System of Records have been updated to include, without limitation, the ability to share information under certain enumerated circumstances with the Department of Justice; either House of Congress or a Congressional office, and other federal agencies and individuals. The new routine uses will be adopted as an appendix that applies to this and all other NCPC System of Records to preclude redundancy (See, Appendix A of this Notice). Upon adoption the modified System of Records will be titled NCPC-1, NCPC Mailing and Other Lists.

The Privacy Act embodies fair information principles in a statutory framework governing the means by which the United States Government collects, maintains, uses, and disseminates individuals' records. The Privacy Act applies to information that is maintained in what is known as a System of Records. A System of Records is defined by the Privacy Act as a group of any records under the control of an agency from which information is retrieved by the name of the individual or by some identifying number, symbol, or other identifying particular assigned to the individual. In the Privacy Act, an individual is defined to encompass United States citizens and legal permanent residents. As a matter of policy, NCPC extends administrative Privacy Act protection to all individuals for Systems of Records that contain information on U.S. citizens, lawful permanent residents, and visitors. Individuals may access their own records contained in a System of Records in the possession or under the control of NCPC in the manner described by NCPC's Privacy Act Regulations found at 1 CFR part 603.

The Privacy Act requires each agency to publish in the Federal Register a description of the type and character of each System of Records that the agency maintains and the routine uses for the records contained in each system. This requirement renders agency recordkeeping practices transparent, notifies individuals of the use to which their respective records are put, and assists individuals find records about themselves maintained by the agency. This notice complies with the requirements of the Privacy Act regarding Systems of Records and sets forth below the requisite information concerning NCPC's Mailing and Other Lists System of Records. In accordance with guidance provided by the Office of Management and Budget (OMB), NCPC provided a report of this updated Systems of Records to OMB, to the House Committee on Oversight and Government Reform, and the Senate Committee on Governmental Affairs.

SYSTEM NAME AND NUMBER:

NCPC-1, NCPC Mailing and Other Lists.

SECURITY CLASSIFICATION:

Unclassified.

SYSTEM LOCATION:

The records containing the list of Federal, State, and local government officials, neighborhood groups, and private citizens of the National Capital Region desiring information on Commission business and activities are located at the premises of a vendor under contract to NCPC. Information on the location of this vendor can be obtained from NCPC's Director, Office of Administration, (202) 482-7200.

The records containing contact information for Commission members and designated alternatives; points of contact for media outlets seeking Commission announcements and press releases; and federal agency contacts for agencies submitting projects for inclusion in the Federal Capital Improvement Plan (FCIP) prepared by NCPC are located at NCPC, 401 9th Street NW, Suite 500 North, Washington, DC 20004.

SYSTEM MANAGERS:

For records indicated in the first and second paragraphs of System Location above, information about the system manager can be obtained from NCPC's Director, Office of Administration, (202) 482-7200.

AUTHORITY FOR THE MAINTENANCE OF THE SYSTEM:

The National Capital Planning Act, 40 U.S.C. 8701 et seq. (2016).

PURPOSE OF THE SYSTEM:

The purpose of the system is to store and maintain names, addresses (both postal and electronic mail) and other relevant information to enable distribution of information pertaining to Commission business and activities.

CATEGORIES OF INDIVIDUALS COVERED BY THE SYSTEM:

Categories of individuals covered by the System include persons appearing on mailing lists maintained by NCPC to facilitate mailing to multiple addressees and implementation of other activities in furtherance of NCPC's duties. These lists include persons who serve on the Commission; individuals, organizations, and contractors participating in NCPC activities such as attendance at Commission or other public meetings; persons including members of the media requesting information from NCPC; and person, organizations who attend or express interest in NCPC business and activities.

CATEGORIES OF RECORDS IN THE SYSTEM:

Categories of records in the System include an individual's name; position title; phone number; electronic mail address; home and/or work address; and affiliation.

RECORD SOURCE CATEGORIES:

Records are obtained from the individuals on whom the records are maintained.

ROUTINE USES OF RECORDS MAINTAINED IN THE SYSTEM, INLCUDING CATGORIES OF USERS AND PURPOSES OF SUCH USE:

Records in this system are used by NCPC employees or contractors retained by NCPC to fulfill requests for NCPC information, provide Commission members and their alternatives with materials necessary to conduct Commission business and keep abreast of NCPC activities, and to contact government agency contacts regarding their application for inclusion of a project in the FCIP. See, Appendix A for other ways the Privacy Act permits NCPC to disclose system records outside the agency.

POLICIES AND PRACTICES FOR STORAGE OF RECORDS:

NCPC stores records electronically in its computer system or that of a contractor or on paper in secure facilities such as a locked office or file cabinet. The records may be stored on magnetic disc, tape, digital media, and paper.

POLICIES AND PRACTICES FOR RETRIEVAL OF RECORDS:

Records may be retrieved by an individual's name, title, phone number, electronic mail address; home or business address; affiliation, and IP address (in some cases where information is submitted electronically).

POLICIES AND PRACTICES FOR RETENTION AND DISPOSAL OF RECORDS:

Records are retained until an individual requests deletion from the agency's list; a Commission member of alternative changes; distribution of information on a particular matter is no longer required because the matter is closed; or as otherwise prescribed under record schedules and procedures issued or approved by the National Archives and Records Administration (NARA).

ADMINISTRATIVE, TECHNICAL, AND PHYSICAL SAFEGUARDS:

Access to records is restricted to NCPC personnel or contractors whose responsibilities include access. Paper records are maintained in locked offices or file cabinets. Access to electronic records is controlled by use of a personal identity verification (PIV) ID card or a “user ID” and password combination and/or other electronic access and network controls (e.g. firewalls). NCPC's offices are located in a public building guarded and monitored by security personnel, cameras, ID check, and other physical security measures. NCPC's office suite is accessed by means of an electronic key card system (employees) and clearance by an office receptionist (visitors). Visitors must sign-in, wear an identification badge, and be escorted by NCPC personnel during their visit to other than public portions of the office (public portions include the Commission chambers and adjacent meeting room). NCPC's suite entrances are also monitored by electronic surveillance.

Records processed, stored, or transmitted and used by contractors are protected by controls implemented by the vendor pursuant to terms incorporated into its contract with NCPC.

RECORD ACCESS PROCEDURES:

Individuals seeking access to a record pertaining to them in the System of Records described herein shall follow the procedures set forth in NCPC's Privacy Act Regulations contained in 1 CFR part 603. The request should be directed to: NCPC Privacy Act Officer, National Capital Planning Commission, 401 9th Street NW, Suite 500, Washington, DC 20004.

CONTESTING RECORD PROCEDURES:

Individuals seeking to contest the content of a record contained in the System of Records described in this Notice shall follow the procedures set forth in Record Access Procedures above.

NOTIFICATION PROCEDURES:

Individuals seeking to determine if the System of Records described in this Notice contains a record pertaining to him/her shall follow the procedures set forth in Record Access Procedures above.

EXEMPTIONS PROMULGATED FOR THE SYSTEM:

None.

HISTORY:

42 FR 8028 (February 8, 1977); 57 FR 47881 (October 20, 1992).

Dated: September 2, 2020.
Anne R. Schuyler,
General Counsel.

[FR Doc. 2020-19824 Filed 9-8-20; 8:45 am]

BILLING CODE P